DEPARTMENT OF HEALTH AND HUMAN SERVICES

Centers for Disease Control and Prevention

Notice of Award of a Single-Source Cooperative Agreement To Fund the Pan American Health Organization (PAHO): Building Capacity and Networks To Address Emerging Infectious Diseases in the Americas

AGENCY: Centers for Disease Control and Prevention (CDC), Department of Health and Human Services (HHS).

ACTION: Notice.

SUMMARY: The Centers for Disease Control and Prevention (CDC), located within the Department of Health and Human Services (HHS), announces the award of approximately $4,000,000, with an expected total funding of approximately $20,000,000 over a 5-year period, to the Pan American Health Organization (PAHO). The award will continue support to PAHO in developing and implementing coordinated national and regional public health programs in the Americas that are consistent with the World Health Organization's International Health Regulations (IHR) strategies and the CDC global health priorities for improving infectious disease surveillance and response, building public health infrastructure and systems, sharing knowledge, tools and other resources in support of applied epidemiology, and developing improved prevention and control strategies for infectious disease, such as arboviruses, coronaviruses, chikungunya, dengue, yellow fever, Zika, HIV, poxviruses, foodborne, antimicrobial resistant and healthcare facility-acquired infectious diseases.

DATES: The period for this award will be 09/03/2023 through 09/02/2028.

FOR FURTHER INFORMATION CONTACT: Amanda (Amy) Pullman, National Center for Emerging and Zoonotic Infectious Diseases (NCEZID), Centers for Disease Control and Prevention, 1600 Clifton Road NE, MS H24-11, Atlanta, GA 30033, Telephone: 404-718-5770 | TTY: (888) 232-6348, Email: EPRB@cdc.gov.

SUPPLEMENTARY INFORMATION: The single-source award will assist Pan American Health Organization (PAHO) in the development and implementation of coordinated plans and networks that enable national governments and regional authorities in the Americas to implement IHR and better address infectious diseases, particularly emerging infections. Measurable outcomes of the program will be in alignment with CDC/NCEZID strategies to strengthen and enhance the national capacity of countries in the Americas to detect, verify, assess, and respond to outbreaks and other public health emergencies of national and international concern (PHEICs).

The PAHO is in a unique position to conduct this work, as it was established in 1902 by President Theodore Roosevelt and more than three decades before the United Nations and the World Health Organization (WHO) as an international public health agency that works with the countries of the Americas to improve the health and quality of life of their populations. PAHO is the Regional Office for the Americas of the WHO as part of the United Nations system. PAHO's formal treaty relationships with all the ministries of health in the Americas make it the only organization that can carry out fully the proposed activities. WHO and its Regional Offices (including PAHO) are at the apex of global public health organizations and thus have an exclusive status as the United States government's key partners for global public health. The International Health Regulations (IHR 2005) is an international agreement that requires WHO Member States to prevent and respond to acute public health risks that have the potential to cross borders and threaten people worldwide.

Summary of the Award

Recipient: Pan American Health Organization (PAHO).

Purpose of the Award: The purpose of this award is to continue support to PAHO in developing and implementing coordinated national and regional public health programs in the Americas that are consistent with the World Health Organization's International Health Regulations (IHR) strategies and the CDC global health priorities, and better address infectious diseases, particularly emerging infections. Strategies and activities include strengthening and enhancing the national capacity of countries in the Americas to detect, verify, assess, and respond to outbreaks, including arboviruses, coronaviruses, chikungunya, dengue, yellow fever, Zika, HIV, poxviruses, foodborne, antimicrobial resistant and healthcare facility-acquired infectious diseases, and other public health emergencies of national and international concern (PHEICs).

Amount of Award: $4,000,000 in Federal Fiscal Year (FFY) 2023 funds, with a total estimated $20,000,000 for the 5-year period of performance, subject to availability of funds.

Authority: This program is authorized under sections 301 and 307 of the Public Health Service Act, as amended [42 U.S.C. 241 and 2421].

Period of Performance: 09/03/2023 through 09/02/2028.

Dated: January 6, 2023.
Terrance Perry,
Chief Grants Management Officer, Centers for Disease Control and Prevention.

[FR Doc. 2023-00384 Filed 1-10-23; 8:45 am]

BILLING CODE 4163-18-P